DEPARTMENT OF ENERGY

Federal Energy Regulatory Commission

[Project No. 12740-003]

Jordan Hydroelectric Limited Partnership; Notice of Application Tendered for Filing With the Commission and Soliciting Additional Study Requests

July 31, 2009.

Take notice that the following hydroelectric application has been filed with the Commission and is available for public inspection.

a. Type of Application: Major Original License.

b. Project No.: P-12740-003.

c. Date filed: July 13, 2009.

d. Applicant: Jordan Hydroelectric Limited Partnership.

e. Name of Project: Flannagan Hydroelectric Project.

f. Location: On the Pound River, near the Town of Clintwood, in Dickenson County, Virginia. The project would occupy federal land managed by the U.S. Army Corps of Engineers (Corps).

g. Filed Pursuant to: Federal Power Act 16 U.S.C. 791(a)-825(r).

h. Applicant Contact: Mr. James B. Price, W.V. Hydro, Inc., P.O. Box 903, Gatlinburg, TN 37738, (865) 436-0402.

i. FERC Contact: John Ramer, (202) 502-8969 or john.ramer@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: September 11, 2009.

All documents (original and eight copies) should be filed with: Kimberly D. Bose, Secretary, Federal Energy Regulatory Commission, 888 First Street, NE., Washington, DC 20426.

Additional study requests and requests for cooperating agency status may be filed electronically via the Internet in lieu of paper. The Commission strongly encourages electronic filings. See 18 CFR 385.2001(a)(1)(iii) and the instructions on the Commission's Web site (http://www.ferc.gov/docs-filing/ferconline.asp) under the “efiling” link. For a simpler method of submitting text only comments, click on “Quick Comment.”

m. The application is not ready for environmental analysis at this time.

n. The proposed project would utilize the existing U.S. Army Corps of Engineers' Flannagan dam, intake tower, outlet works, and 1,145-acre reservoir and would consist of the following proposed facilities: (1) Two new turbine generator units located within the Corps' existing intake tower having a total installed capacity of 3 megawatts; (2) a new control booth on the intake tower; (3) a new substation near the Corps' existing service bridge; (4) new transmission leads connecting the generator units to Appalachian Power Company's existing transmission line; and (5) appurtenant facilities. The average annual generation is estimated to be 9.5 gigawatt-hours.

o. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

You may also register online at http://www.ferc.gov/docs-filing/esubscription.asp to be notified via e-mail of new filings and issuances related to this or other pending projects. For assistance, contact FERC Online Support.

p. With this notice, we are initiating consultation with the Virginia State Historic Preservation Officer (SHPO), as required by § 106, National Historic Preservation Act, and the regulations of the Advisory Council on Historic Preservation, 36, CFR, at 800.4.

q. Procedural schedule: The application will be processed according to the following Hydro Licensing Schedule. Revisions to the schedule will be made as appropriate.

Issue Deficiency or Acceptance letter: September 2009

Issue Scoping Document: November 2009

Notice of application is ready for environmental analysis: February 2010

Notice of the availability of the EA: July 2010

Nathaniel J. Davis, Sr.,
Deputy Secretary.

[FR Doc. E9-18917 Filed 8-6-09; 8:45 am]

BILLING CODE 6717-01-P